DEPARTMENT OF THE INTERIOR

Office of the Secretary

[PPWOIRADA1/PRCRFRFR6.XZ0000/PR.RIRAD1801.00.1; OMB Control Number 1093-0006]

Agency Information Collection Activities; Administration of Volunteer.gov Website and Associated Volunteer Activities

AGENCY: Office of the Secretary, Interior.

ACTION: Notice of information collection; request for comment.

SUMMARY: In accordance with the Paperwork Reduction Act of 1995, we, the Office of the Secretary, Department of the Interior (Interior) are proposing to renew an information collection.

DATES: Interested persons are invited to submit comments on or before May 13, 2024.

ADDRESSES: Send your comments on this information collection request (ICR) by mail to Nicholas Solomon, 1849 C Street NW, Washington, DC 20240; or by email to nicholas_solomon@nps.gov. Please reference OMB Control Number 1093-0006 in the subject line of your comments.

FOR FURTHER INFORMATION CONTACT: To request additional information about this ICR, contact Nicholas Solomon, 1849 C Street NW, Washington, DC 20240 by email at nicholas_solomon@nps.gov, or by telephone at 202.604.1727. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995 (PRA, 44 U.S.C. 3501 et seq.) and 5 CFR 1320.8(d)(1), all information collections require approval under the PRA. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Various laws, statutes, and regulations, to include the Volunteers in the Parks Act of 1969 (54 U.S.C. 102301), Public Lands Corps Act (16 U.S.C. 1721 et. seq.), the Outdoor Recreation Authority (16 U.S.C. 4601), Volunteers in the National Forests Program (16 U.S.C. 558 a-d), and the Forest Foundation Volunteers Act (16 U.S.C. 583j), authorize Federal land management agencies to work with volunteers, youth, and partner organizations to plan, develop, maintain, and manage projects and service activities on public lands and adjacent projects throughout the nation. We use volunteers, youth programs, and partnerships to aid in disaster response, interpretive functions, visitor services, conservation measures and development, research and development, recreation, and or other activities as allowed by an agency's policy and regulations. Providing, collecting, and exchanging written and electronic information is required from potential and selected program participants of all ages so they can access opportunities and benefits provided by agencies guidelines. Those under the age of 18 years must have written consent from a parent or guardian to participate in volunteer activities.

These forms, available for prospective volunteers to complete electronically or as paper forms, serve two functions:

• Recruiting potential volunteers, and

• Formalizing agreements between current volunteers and the agencies with which they are volunteering.

The customer relationship management web-based portal, Volunteer.gov, is the agencies' response to meeting the public's request for improved digital customer services to access and apply for engagement opportunities. Under one security platform parameter, the Volunteer.gov website provides prospective and current program participants the ability to establish an account for electronic submission of program applications and to obtain status of applications and enrollments. Current functionality provides information digitally on benefits and requirements and facilitates improved tracking of volunteer service hours. As field level programs transition to using Volunteer.gov, these data points may be tracked either manually or digitally and are accessible from agency volunteer program coordinators.

This information collection specifically minimizes the burden on the respondents. While electronic records provide a means to streamline data collection and allow participant access to track benefits and control the sharing of their data, the participating agencies will continue to provide accessible paper versions of the volunteer forms upon request and in special circumstances where the digital alternative is not possible.

Participating Agencies

• Department of the Interior: All Interior offices and units, including National Park Service, U.S. Fish and Wildlife Service, Bureau of Land Management, Bureau of Reclamation, Bureau of Indian Affairs, Office of Surface Mining Reclamation and Enforcement, and U.S. Geological Survey.

• Department of Agriculture: U.S. Forest Service and Natural Resources Conservation Service.

• Department of Defense: U.S. Army Corps of Engineers.

• Department of Commerce: National Oceanic and Atmospheric Administration—Office of National Marine Sanctuaries.

Common Forms

Form OF-301—Volunteer Application: Individuals interested in volunteering may access the Volunteer.gov website to complete an on-line application on the Volunteer.gov website. Alternatively, they may contact any agency listed above to request a Volunteer Application (Form OF-301). We collect the following information from applicants via Form OF-301:

• Name and contact information (address, telephone number, and email address);

• Date of birth;

• Preferred work categories;

• Interests;

• Citizenship status;

• Available dates and preferred location;

• Physical limitations; and

• Lodging preferences.

Information collected using this form or Volunteer.gov assists agency volunteer coordinators and other personnel in matching volunteers with agency opportunities appropriate for an applicant's skills, physical condition, and availability.

Form OF-301A—Volunteer Service Agreement: We use this form to establish agreements for volunteer services between Federal agencies and individual or group volunteers, to include eligible international volunteers. We require the signature of parents or guardians for all applicants under 18 years of age. We collect the following information from volunteers via Form OF-301A:

• Name and contact information (address, telephone number, and email address);

• Date of birth (proposed new data field);

• Citizenship information; and,

• Emergency contact information.

Form OF-301A describes the service a volunteer will perform, and asks a volunteer to confirm their understanding of the purpose of the volunteer program, their fitness and ability to perform the duties as described, and whether they consent to being photographed.

Form OF-301B—Volunteer Group Sign-up: We use this form to document awareness and understanding by adult individuals in groups about the volunteer activities between a Federal agency and a partner organization with group participants, and accompanies the Form OF-301a. We collect the following information from volunteers via Form OF-301b:

• Name and contact information (address, telephone number, and email address);

• Month and year of birth;

• Confirmation of understanding of the purpose of the volunteer program;

• Fitness and ability to perform the duties as described; and

• Whether they consent to being photographed

Each participating agency must request OMB approval of, and report their own burden associated with, the use of common forms OF-301, OF-301A, and OF-301B in order to be authorized to participate in this information collection. Interior will not assume the burden for any agencies other than its own bureaus and offices that participate in the volunteer program.

Title of Collection: Administration of Volunteer.gov Website and Associated Volunteer Activities.

OMB Control Number: 1093-0006.

Form Number: OF-301, OF-301A, and OF-301B.

Type of Review: Extension of a currently approved collection.

Respondents/Affected Public: Individuals and private sector (cooperating associations and partner organizations) interested in volunteer opportunities.

Total Estimated Number of Annual Respondents: 526,775.

Total Estimated Number of Annual Responses: 526,775.

Estimated Completion Time per Response: Completion time varies from 5 minutes to 15 minutes, depending on activity.

Total Estimated Number of Annual Burden Hours: 99,109.

Respondent's Obligation: Required to obtain or retain a benefit.

Frequency of Collection: Typically once per year.

Total Estimated Annual Nonhour Burden Cost: There are no non-hour cost burdens associated with this information collection.

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2024-05432 Filed 3-13-24; 8:45 am]

BILLING CODE 4334-63-P